FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777 (46 App. U.S.C. 817 (e)) and the Federal Maritime Commission's implementing regulations at 46 CFR part 540, as amended:

American West Steamboat Company LLC, 2101 Fourth Avenue, Suite 1150, Seattle, WA 98121.

Vessel: EMPRESS OF THE NORTH.

Crystal Cruises, Inc., 2049 Century Park East, Suite 1400, Los Angeles, CA 90067.

Vessel: CRYSTAL SERENITY.

Delta Queen Steamboat Company, Inc., DNPS Delta Queen Steamboat Company, Inc., and American Queen Steamboat, LLC, 1380 Port of New Orleans Place, New Orleans, LA 70130.

Vessel: AMERICAN QUEEN.

Delta Queen Steamboat Company, Inc. DNPS Delta Queen Steamboat Company, Inc., Delta Queen Steamboat, LLC, and DNPS Delta Queen Steamboat, LLC, 1380 Port of New Orleans Place, New Orleans, LA 70130.

Vessel: DELTA QUEEN.

Delta Queen Steamboat Company, Inc., DNPS Delta Queen Steamboat Company, Inc., and Mississippi Queen Steamboat, LLC, 1380 Port of New Orleans Place, New Orleans, LA 70130.

Vessel: MISSISSIPPI QUEEN.

Lindblad Expeditions, Inc., 720 Fifth Avenue, New York, NY 10019.

Vessels: POLARIS, SEA BIRD and SEA LION.

Mitsui O.S.K. Passenger Line, Ltd., Nippon Charter Cruise, Ltd., Mopas Cruise Line S.A., and Mitsui O.S.K. Lines, Ltd., 1-1 Toranomon, 2 Chome Minato-ku, Tokyo 105 8452, Japan.

Vessel: FUJI MARU.

Princess Cruise Lines, Ltd., P & O Cruises International Limited, and P & O Princess Cruises plc, 24305 Town Center Drive, Santa Clarita, CA 91355-4999.

Vessels: DIAMOND PRINCESS and ISLAND PRINCESS.

Scotia Prince Cruises Limited, Prince of Fundy Cruises Ltd., Transworld Steamship Co., and International Shipping Partners, Inc., Station A, P.O. Box 4216, 468 Commercial Street, Portland, ME 04101.

Vessel: SCOTIA PRINCE.

Society Expeditions, Inc., Society Expeditions GmbH, and

Discoverer Reederei GmbH, 2001 Western Avenue, Suite 300, Seattle, WA 98121.

Vessel: WORLD DISCOVERER.

The World of ResidenSea Ltd., and ResidenSea Resorts Ltd., 5200 Blue Lagoon Drive, Suite 790, Miami, FL 33126.

Vessel: THE WORLD.

Dated: June 14, 2002.
Bryant L. VanBrakle,
Secretary.

[FR Doc. 02-15504 Filed 6-19-02; 8:45 am]

BILLING CODE 6730-01-P